ENVIRONMENTAL PROTECTION AGENCY

[ER-FRL-6625-5]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 260-5076. An explanation of the ratings assigned to draft environmental impact statements (EISs) was published in FR dated May 18, 2001 (66 FR 27647).

Draft EISs

ERP No. D-AFS-J65009-00 Rating LO, Programmatic EIS—Kootena, Idaho Panhandle, and Lolo National Forests, Forest Plan Amendments for Access Management within the Selkirk and Cabinet-Yaak Grizzly Bear Recovery Zones, ID, WA and MT.

Summary: EPA generally supports the Forest Service's preferred alternative for grizzly bear management based on site-specific conditions and projects. EPA questions whether resources are sufficient to implement the preferred alternatives and road management for water quality.

ERP No. D-NPS-K65080-AZ Rating LO, Sunset Crater Volcano National Monument, General Management Plan, Implementation, Flagstaff Area, Coconina County, AZ.

Summary: EPA has no objections to the Park Service's preferred management plans for three National Monuments in the Flagstaff area.

ERP No. D-NPS-K65081-AZ Rating LO, Wupatki National Monument, General Management Plan, Implementation, Flagstaff Area, Coconina County, AZ.

Summary: EPA has no objections to the Park Services's preferred management plans for three National Monuments in the Flagstaff area.

ERP No. D-NPS-K65082-AZ Rating LO, Walnut Canyon National Monument, General Management Plan, Implementation, Flagstaff Area, Coconina County, AZ.

Summary: EPA has no objections to the Park Service's preferred management plans for three National Monuments in the Flagstaff area.

ERP No. DS-COE-E34030-FL Rating LO, Central and Southern Florida Project, Indian River Lagoon-South Feasibility Study, Additional Information, Restoration, Protection and Preservation, Canals denoted; C-23, C-24, C-25 and C-44, Comprehensive Everglades Restoration Plan, (CERP), Martin and St. Lucie Counties, FL.

Summary: EPA supports the positive water quality and habitat benefits which should result from the proposed IRLS plan.

ERP No. DS-GSA-K81011-CA Rating EC2, Los Angeles Federal Building—U.S. Courthouse, Construction of a New Courthouse in the Civic Center, Additional Information, City of Los Angeles, Los Angeles County, CA.

Summary: EPA expressed continued environmental concerns with the lack of information regarding comments GSA received on the DEIS, building space requirements, and traffic and air quality impacts.

Final EISs

ERP No. F-FHW-G40163-TX IH-10 West from Taylor Street to FM-1489, Construction and Reconstruction, Central Business District (CBD), Funding, Right-of-Way Permit and US Army COE Section 404 Permit Issuance, Harris, Fort Bend and Waller Counties, TX.

Summary: EPA had no further comments to offer on the Final Environmental Impact Statement.

Dated: January 8, 2002.
Joseph C. Montgomery,
Director, NEPA Compliance Division, Office of Federal Activities.

[FR Doc. 02-722 Filed 1-10-02; 8:45 am]

BILLING CODE 6560-50-U